DEPARTMENT OF ENERGY

Federal Energy Regulatory Commission

[Project No. 2354-087 Georgia]

Georgia Power Company; Notice of Availability of Environment Assessment

September 28, 2005.

An environmental assessment (EA) is available for public review. The EA was prepared for an application filed by Georgia Power Company on June 2, 2005, requesting the Commission's authorization to permit the Clayton-Rabun County Water and Sewer Authority (Authority) to increase its water withdrawal from Lake Rabun, a reservoir of the North Georgia Project, from 2.0 million gallons per day to 3.5 million gallons per day for municipal water supply.

The EA evaluates the environmental impacts that would result from permitting the Authority to increase its water withdrawal from Lake Rabun, as stated above. The existing 10-inch piping from the intake pumps to the distribution main would be replaced with 16-inch piping. No significant construction activity would be required within the project boundary. The EA finds that approval of the application would not constitute a major Federal action significantly affecting the quality of the human environment.

A copy of the EA is attached to a Commission order titled “Order Approving Non-Project Use of Project Lands and Waters”, issued September 27, 2005, and is available at the Commission's Public Reference Room. A copy of the EA may also be viewed on the Commission's Web site at http://www.ferc.gov using the “elibrary” link. Enter the docket number (P-2354) in the docket number field to access the document. For assistance, call (202) 502-8222 or (202) 502-8659 (for TTY).

Magalie R. Salas,
Secretary.

[FR Doc. E5-5511 Filed 10-5-05; 8:45 am]

BILLING CODE 6717-01-P